DEPARTMENT OF JUSTICE

Drug Enforcement Administration

Byron L. Aucoin, M.D.; Revocation of Registration

On June 29, 2001, the Deputy Assistant Administrator, Office of Diversion Control, Drug Enforcement Administration (DEA), issued an Order to Show Cause (OTSC) by certified mail to Byron L. Aucoin, M.D., notifying him of an opportunity to show cause as to why the DEA should not revoke his DEA Certificate of Registration, BA5204817, pursuant to 21 U.S.C. 824(a)(3), and deny any pending applications for renewal of such registration pursuant to 21 U.S.C. 823(f), on the grounds that Dr. Aucoin was not authorized by the State of Louisiana to handle controlled substances. The order also notified Dr. Aucoin that should no request for hearing be filed within 30 days, his right to a hearing would be deemed waived.

The OTSC was sent to Dr. Aucoin at his DEA registered premises in Shreveport, Louisiana. A postal delivery receipt was signed July 12, 2001, on behalf of Dr. Aucoin, indicating the OTSC was received. To date, no response has been received from Dr. Aucoin nor anyone purporting to represent him.

Therefore, the Deputy Administrator, finding that (1) 30 days having passed since the receipt of the Order to Show Cause, and (2) no request for a hearing having been received, concludes that Dr. Aucoin is deemed to have waived his right to a hearing. Following a complete review of the investigative file in this matter, the Deputy Administrator now enters his final order without a hearing pursuant to 21 CFR 130.143(d) and (e), and 1301.46.

The Deputy Administrator finds as follows: Dr. Aucoin currently possesses DEA Certificate of Registration BA5204817, issued to him in Louisiana. In a letter dated October 30, 2000, the Louisiana State Board of Medical Examiners (Board) notified the DEA New Orleans Field Division that Dr. Aucoin had entered into a Stipulation and Agreement for Voluntary Surrender of his medical license, effective September 27, 2000. Subsequent to his failure to attend a hearing set by the Board to address charges of misconduct, Dr. Aucoin informed the Board that he wished to permanently retire from the practice of medicine in Louisiana by voluntarily surrendering his medical license. The investigative file contains no evidence that Dr. Aucoin's medical license has been reinstated. Therefore, the Deputy Administrator concludes that Dr. Aucoin is not currently licensed or authorized to handle controlled substances in Louisiana.

The DEA does not have the statutory authority pursuant to the Controlled Substances Act to issue or to maintain a registration if the applicant or registrant is without state authority to handle controlled substances in the state in which he or she practices. See 21 U.S.C. 823(f), and 824(a)(3). This prerequisite has been consistently upheld in prior DEA cases. See Graham Travers Schuler, M.D., 65 FR 50,570 (2000); Romeo J. Perez, M.D., 62 FR 16,193 (1997); Demetris A. Green, M.D., 61 FR 60,728 (1996); Dominick A. Ricci, M.D., 58 FR 51,104 (1993).

In the instant case, the Deputy Administrator finds the Government has presented evidence demonstrating that Dr. Aucoin is not authorized to practice medicine in Louisiana, and therefore, the Deputy Administrator infers that Dr. Aucoin is also not authorized to handle controlled substances in Louisiana, the state in which he holds his DES Certificate of Registration.

Accordingly, the Deputy Administrator of the Drug Enforcement Administration, pursuant to the authority vested in him by 21 U.S.C. 823 and 824 and 28 CFR 0.100(b) and 0.104, hereby orders that the DEA Certificate of Registration BA5204817, previously issued to Byron L. Aucoin, M.D., be, and it hereby is, revoked. The Deputy Administrator hereby further orders that any pending applications for renewal or modification of said registration be, and hereby are, denied. This order is effective June 19, 2002.

Dated: May 6, 2002.
John B. Brown, III,
Deputy Administrator.

[FR Doc. 02-12490 Filed 5-17-02; 8:45 am]

BILLING CODE 4410-09-M